DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Housing Vacancy Survey (HVS).

Form Number(s): HVS-600, BC-1428RV, CPS-263(L).

Agency Approval Number: 0607-0179.

Type of Request: Extension of a currently approved collection.

Burden: 3,910 hours.

Number of Respondents: 6,518.

Avg Hours Per Response: 3 minutes.

Needs and Uses: The U.S. Census Bureau seeks OMB clearance for the collection of demographic information in the Housing Vacancy Survey (HVS). The HVS has been conducted since 1956 and serves a broad array of data users.

The Census Bureau collects the HVS data for a sample of vacant housing units identified in the monthly Current Population Survey (CPS) sample. The HVS provides the only quarterly statistics on rental vacancy rates, and home ownership rates for the United States, the four census regions, inside vs. outside metropolitan areas (MAs), the 50 States, the District of Columbia, and the 100 largest MAs. Private and public sector organizations use these rates extensively to gauge and analyze the housing market. In addition, the rental vacancy rate is a component of the index of leading economic indicators published by the Department of Commerce.

Several other government agencies use these data on a continuing basis. For example, the Bureau of Economic Analysis uses the HVS data in calculating consumer expenditures for housing as a component of the gross domestic product; the Office of Thrift Supervision uses these data to project mortgage demands; and the Department of Housing and Urban Development relies on the HVS data to measure the adequacy of the supply of rental and homeowner units. The National Association of Home Builders, the National Association of Realtors, the Federal National Mortgage Association, the Federal Reserve Board, the Home Loan Mortgage Corporation, and the American Federation of Labor-Congress of Industrial Organizations (AFL-CIO) are among the many users in the private sector who routinely use the HVS data in making policy decisions relating to the housing market. In addition, investment firms use the HVS data to analyze market trends and for economic forecasting.

Affected Public: Individuals or households.

Frequency: Monthly.

Respondent's Obligation: Voluntary.

Legal Authority: Title 13 U.S.C., Section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 9, 2005.
Madeleine Clayton,
Management Analyst, Office of the Chief Information Officer.

[FR Doc. 05-16032 Filed 8-11-05; 8:45 am]

BILLING CODE 3510-07-P